DEPARTMENT OF HOMELAND SECURITY

Transportation Security Administration

[Docket No. TSA-TSA-2007-28572]

Intent to Request Renewal From OMB of One Current Public Collection of Information: Secure Flight Program

AGENCY: Transportation Security Administration, DHS.

ACTION: 60-day Notice.

SUMMARY: The Transportation Security Administration (TSA) invites public comment on one currently approved Information Collection Request (ICR), Office of Management and Budget (OMB) control number 1652-0046, abstracted below that we will submit to OMB for renewal in compliance with the Paperwork Reduction Act (PRA). The ICR describes the nature of the information collection and its expected burden. The collection involves passenger information which certain U.S. aircraft operator and foreign air carriers submit to Secure Flight for the purposes of watch list matching.

DATES: Send your comments by October 3, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0046; Secure Flight Program, 49 CFR part 1560

The Transportation Security Administration collects information from covered aircraft operators, including foreign air carriers, in order to perform watch list matching under the Secure Flight Program. The collection covers passenger reservation data for covered domestic and international flights within, to, from or over the continental United States. The collection also covers the collection from covered aircraft operators of certain identifying information for non-traveling individuals that the aircraft operators seek to authorize to enter a sterile area at a U.S. airport, for example, to escort a minor or a passenger with disabilities or for another approved purpose. The collection also covers passenger data for charter operators and lessors of aircraft with a maximum takeoff weight of over 12,500 pounds. The collection also covers certain identifying information for non-traveling individuals that airport operators seek to authorize to enter a sterile area at a U.S. airport, for example, to patronize a restaurant. The collection will also cover a survey of certain general aviation aircraft operators that may be covered by Secure Flight in the future. The current estimated annual reporting burden is 902,826.

Issued in Arlington, Virginia, on July 27, 2011.
Joanna Johnson,
TSA Paperwork Reduction Act Officer, Office of Information Technology.

[FR Doc. 2011-19569 Filed 8-2-11; 8:45 am]

BILLING CODE 9110-05-P